DEPARTMENT OF COMMERCE

International Trade Administration

[C-357-826]

White Grape Juice Concentrate From Argentina: Preliminary Affirmative Countervailing Duty Determination and Alignment of Final Determination With the Final Antidumping Duty Determination; Correction

AGENCY: Enforcement and Compliance, International Trade Administration, Department of Commerce.

ACTION: Notice; correction.

SUMMARY: The U.S. Department of Commerce (Commerce) published a notice in the Federal Register on September 6, 2022, in which Commerce announced the preliminary affirmative determination in the countervailing duty (CVD) investigation of white grape juice concentrate (WGJC) from Argentina. In that notice, Commerce did not state that it is aligning the final CVD determination in this investigation with the final determination in the companion antidumping duty (AD) investigation of WGJC from Argentina. We are correcting this error with this notice, as described below.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Correction

In the Federal Register of September 6, 2022, in FR Doc 2022-19190, on page 54455, after the paragraph, “Methodology,” add the following paragraph regarding alignment:

“Alignment

As noted in the Preliminary Decision Memorandum, in accordance with section 705(a)(1) of the Act and 19 CFR 351.210(b)(4), Commerce is aligning the final CVD determination in this investigation with the final determination in the companion antidumping duty (AD) investigation of WGJC from Argentina, based on a request made by the petitioner.¹ Consequently, the final CVD determination will be issued on the same date as the final AD determination, which is currently scheduled to be issued no later than January 10, 2023, unless postponed.”

¹ See Petitioner's Letter, “Petitioner's Request for Alignment of the CVD Determination with the AD Determination,” dated June 27, 2022.

Background

On September 6, 2022, Commerce published in the Federal Register the Preliminary Determination in the CVD investigation on WGJC from Argentina.² In that notice, Commerce did not state, as it had in the accompanying Preliminary Decision Memorandum, that it is aligning the final CVD determination in this investigation with the final determination in the companion AD investigation of WGJC from Argentina. Commerce is hereby correcting the Preliminary Determination.

² See White Grape Juice Concentrate from Argentina: Preliminary Affirmative Countervailing Duty Determination, 87 FR 54455 (September 6, 2022) (Preliminary Determination).

Notification to Interested Parties

This notice is issued and published in accordance with sections 703(f) and 777(i) of the Tariff Act of 1930, as amended, and 19 CFR 351.205(c).

Dated: September 16, 2022.
Lisa W. Wang,
Assistant Secretary for Enforcement and Compliance.

[FR Doc. 2022-20664 Filed 9-22-22; 8:45 am]

BILLING CODE 3510-DS-P